DEPARTMENT OF HOMELAND SECURITY

Bureau of Customs and Border Protection

Notice of Cancellation of Customs Broker Permit

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker local permits are cancelled without prejudice.

Name | Permit # | Issuing port
FSP Customs Brokerage, Inc | 28-04-BEX | San Francisco.
James MacNeill
Solaris Import Management Group | 27-03-GF6 | Los Angeles.
AEI Drawback Services, Inc
Danzas Drawback Services | 12654-P | San Francisco.
Air Cargo Sales, Inc | 09-04-MJ8 | Buffalo.
MEC Transport Corp | 53-03-DH1 | Houston.

Dated: January 12, 2005.
Jayson P. Ahern,
Assistant Commissioner, Office of Field Operations.

[FR Doc. 05-1101 Filed 1-19-05; 8:45 am]

BILLING CODE 4820-02-P